ENVIRONMENTAL PROTECTION AGENCY

40 CFR Part 52

[WI88-01-7319a; FRL-6706-3]

Approval and Promulgation of State Implementation Plans; Wisconsin; Site-Specific Revision for Uniroyal Engineered Products

AGENCY: Environmental Protection Agency (EPA).

ACTION: Direct final rule.

SUMMARY: The EPA is approving a revision to the volatile organic compound (VOC) control requirements for Uniroyal Engineered Products, Inc., located in Stoughton, Wisconsin. The Wisconsin Department of Natural Resources (WDNR) submitted this State Implementation Plan (SIP) revision on October 30, 1999 and revised it on February 17, 2000. Our approval of this revision makes federally enforceable the State's February 7, 2000, Consent Order AM-99-900, which establishes alternate control requirements for Uniroyal.

If we receive adverse comments on this action, we will publish a timely withdrawal of the direct final rule in the Federal Register informing the public that the rule will not take effect.

DATES: This “direct final” rule will be effective August 7, 2000, unless we receive adverse or critical comments by July 10, 2000. If the rule is withdrawn, timely notice will be published in the Federal Register.

ADDRESSES: Send written comments to Carlton Nash, Chief, Regulation Development Section, Air Programs Branch (AR-18J), United Environmental Protection Agency, 77 West Jackson Boulevard, Chicago, Illinois 60604. (We recommend that you telephone Kathleen D'Agostino, at (312) 886-1767, before visiting the Region 5 Office.)

A copy of this SIP revision is available for inspection at the Office of Air and Radiation (OAR) Docket and Information Center (Air Docket 6102), United States Environmental Protection Agency, Ariel Rios Building, 1200 Pennsylvania Avenue, NW, Washington, DC 20460, (202) 260-7548.

FOR FURTHER INFORMATION CONTACT: Kathleen D'Agostino, Regulation Development Section (AR-18J), Air Programs Branch, Air and Radiation Division, United States Environmental Protection Agency, Region 5, 77 West Jackson Boulevard, Chicago, Illinois 60604, (312) 886-1767.

SUPPLEMENTARY INFORMATION: This Supplementary Information section is organized as follows:

A. What Action is EPA Taking?

B. How Does this Action Change Pollution Control Requirements for Uniroyal?

C. Will this Action Adversely Impact Air Quality in the Area?

D. What is EPA's Final Determination?

A. What Action Is EPA Taking?

EPA is approving a revision to Wisconsin's SIP to relax VOC control requirements for Uniroyal.

B. How Does This Action Change Pollution Control Requirements for Uniroyal?

In the early 1980s Wisconsin adopted Reasonably Available Control Technology (RACT) regulations for the entire state. We approved these regulations and incorporated them into Wisconsin's SIP for ozone. Uniroyal manufactures vinyl coated fabrics and, under these rules, is subject to a limit of 3.8 pounds of VOC per gallon of coating, excluding water, for coatings used on vinyl coating lines.

Our approval of alternate control requirements for Uniroyal exempts the company from the 3.8 pounds of VOC per gallon of coating limit for its vinyl coating lines and requires the following:

1. At least 95% of all vinyl yardage requiring topcoats must be coated with waterborne topcoats on a monthly basis or if the 95% requirement is not met, an incinerator must control emissions to the level that would have been attained had the 95% requirement been met.

2. No more than 65,630 pounds of VOC may be released into the ambient air per month.

3. No more than 5,435 pounds of VOC may be released into the ambient air per day.

4. Specific records and monitoring data must be kept and compliance testing must be performed.

C. Will This Action Adversely Impact Air Quality in the Area?

Uniroyal is located in Dane County which is designated as attainment for ozone. The county is, and has been monitoring attainment of both the 1-hour and 8-hour ozone standards. Since 1987, Uniroyal has been operating under a State-approved variance which allows emissions equivalent to the emissions allowed under the SIP revision that we are approving with this action. Consequently, our approval of the alternate control requirements for Uniroyal should not interfere with attainment or continued maintenance of the ozone standard.

D. What Is EPA'S Final Determination?

Based on the rationale set forth above and in EPA's Technical Support Document, we are approving a revision to the VOC control requirements for Uniroyal Engineered Products. Our approval of this revision makes federally enforceable the State's February 7, 2000, Consent Order AM-99-900, which establishes alternate control requirements for Uniroyal.

We are publishing this action without prior proposal, because we view this as a noncontroversial revision and anticipate no adverse comments. However, in a separate document in this Federal Register publication, we are proposing to approve the State variance should adverse written comments be filed.

This action will be effective August 7, 2000 without further notice unless relevant adverse comments are received by July 10, 2000. If we receive such comments, we will withdraw this action before the effective date by publishing a subsequent document that will withdraw the final action. We will then address all public comments received in a subsequent final rule based on the proposed action. We will not institute a second comment period. Any parties interested in commenting on this action should do so at this time. If we do not receive comments, this action will be effective August 7, 2000.

Nothing in this action should be construed as permitting or allowing or establishing a precedent for any future implementation plan. Each request for revision to the SIP shall be considered separately in light of specific technical, economic, and environmental factors and in relation to relevant statutory and regulatory requirements.

Administrative Requirements

E. Executive Order 12866

The Office of Management and Budget (OMB) has exempted this regulatory action from Executive Order 12866, entitled “Regulatory Planning and Review.”

F. Executive Order 13045

Protection of Children from Environmental Health Risks and Safety Risks (62 FR 19885, April 23, 1997), applies to any rule that: (1) is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it does not involve decisions intended to mitigate environmental health or safety risks.

G. Executive Order 13084

Under Executive Order 13084, EPA may not issue a regulation that is not required by statute, that significantly affects or uniquely affects the communities of Indian tribal governments, and that imposes substantial direct compliance costs on those communities, unless the Federal government provides the funds necessary to pay the direct compliance costs incurred by the tribal governments, or EPA consults with those governments. If EPA complies by consulting, Executive Order 13084 requires EPA to provide to the Office of Management and Budget, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.”

Today's rule does not significantly or uniquely affect the communities of Indian tribal governments. This action does not involve or impose any requirements that affect Indian Tribes. Accordingly, the requirements of section 3(b) of Executive Order 13084 do not apply to this rule.

H. Executive Order 13132

Federalism (64 FR 43255, August 10, 1999) revokes and replaces Executive Orders 12612 (Federalism) and 12875 (Enhancing the Intergovernmental Partnership). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This rule will not have substantial direct effects on the States, on the relationship between the national government and the States, or on the distribution of power and responsibilities among the various levels of government, as specified in Executive Order 13132, because it merely approves a state rule implementing a federal standard, and does not alter the relationship or the distribution of power and responsibilities established in the Clean Air Act. Thus, the requirements of section 6 of the Executive Order do not apply to this rule.

I. Regulatory Flexibility

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

This rule will not have a significant impact on a substantial number of small entities because SIP approvals under section 110 and subchapter I, part D of the Clean Air Act do not create any new requirements but simply approve requirements that the State is already imposing. Therefore, because the Federal SIP approval does not create any new requirements, I certify that this action will not have a significant economic impact on a substantial number of small entities. Moreover, due to the nature of the Federal-State relationship under the Clean Air Act, preparation of flexibility analysis would constitute Federal inquiry into the economic reasonableness of state action. The Clean Air Act forbids EPA to base its actions concerning SIPs on such grounds. Union Electric Co. v. U.S. EPA, 427 U.S. 246, 255-66 (1976); 42 U.S.C. 7410(a)(2).

J. Unfunded Mandates

Under sections 202 of the Unfunded Mandates Reform Act of 1995 (“Unfunded Mandates Act”), signed into law on March 22, 1995, EPA must prepare a budgetary impact statement to accompany any proposed or final rule that includes a Federal mandate that may result in estimated costs to State, local, or tribal governments in the aggregate; or to the private sector, of $100 million or more. Under section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated costs of $100 million or more to either State, local, or tribal governments in the aggregate, or to the private sector. This Federal action approves pre-existing requirements under State or local law, and imposes no new requirements. Accordingly, no additional costs to State, local, or tribal governments, or to the private sector, result from this action.

K. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: rules of particular applicability; rules relating to agency management or personnel; and rules of agency organization, procedure, or practice that do not substantially affect the rights or obligations of non-agency parties. 5 U.S.C. 804(3). EPA is not required to submit a rule report regarding this action under section 801 because this is a rule of particular applicability.

L. National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action. Today's action does not require the public to perform activities conducive to the use of VCS.

M. Petitions for Judicial Review

Under section 307(b)(1) of the Clean Air Act, petitions for judicial review of this action must be filed in the United States Court of Appeals for the appropriate circuit by August 7, 2000. Filing a petition for reconsideration by the Administrator of this final rule does not affect the finality of this rule for the purposes of judicial review nor does it extend the time within which a petition for judicial review may be filed, and shall not postpone the effectiveness of such rule or action. This action may not be challenged later in proceedings to enforce its requirements.

(See section 307(b)(2).)

List of Subjects in 40 CFR Part 52

Environmental protection, Air pollution control, Incorporation by reference, Ozone, Reporting and recordkeeping requirements, Volatile organic compound.

Authority: 42 U.S.C. 7401-7671q.

Dated: May 12, 2000.
Robert Springer,
Acting Regional Administrator, Region 5.

Accordingly, title 40 of CFR part 52, Subpart YY, is amended as follows:

PART 52—[AMENDED]

1. The authority citation for part 52 continues to read as follows:

Authority: 42 U.S.C. 7401-7671q.

Subpart YY—Wisconsin

2. Section 52.2570 is amended by adding paragraph (c)(100) to read as follows:

§ 52.2570 Identification of plan.

* * * * *

(c) * * *

(100) On October 30, 1998, Wisconsin submitted a source-specific State Implementation Plan revision for Uniroyal Engineered Products, Inc., located in Stoughton, Wisconsin. The State supplemented the original submittal with Consent Order Number AM-99-900 on February 17, 2000. This source-specific variance relaxes volatile organic compound reasonably available control technology requirements for Uniroyal.

(i) Incorporation by reference.

(A) Consent Order Number AM-99-900, issued by the Wisconsin Department of Natural Resources to Uniroyal Engineered Products on February 17, 2000.

[FR Doc. 00-14175 Filed 6-7-00; 8:45 am]

BILLING CODE 6560-50-P